NATIONAL SCIENCE FOUNDATION

Committee on Equal Opportunities in Science and Engineering; Notice of Meeting

In accordance with the Federal Advisory Committee Act (Pub. L. 92-463, as amended), the National Science Foundation announces the following meeting:

Name: Committee on Equal Opportunities in Science and Engineering (CEOSE) Advisory Committee Meeting (1173).

Dates/Time: June 19, 2014, 1:00 p.m.-5:30 p.m. June 20, 2014, 9:00 a.m.-3:30 p.m.

Place: National Science Foundation (NSF), 4201 Wilson Boulevard, Arlington, VA 22230.

To help facilitate your entry into the building, contact the individual listed below. Your request to attend this meeting must be received by email (gfarves@nsf.gov) on or prior to June 17, 2014.

Type of Meeting: Open.

Contact Person: Dr. Bernice Anderson, Senior Advisor and CEOSE Executive Secretary, Office of International and Integrative Activities, National Science Foundation, 4201 Wilson Boulevard, Arlington, VA 22230; Telephone Numbers: (703) 292-5151/703-292-8040 banderso@nsf.gov.

Minutes: Meeting minutes and other information may be obtained from the CEOSE Executive Secretary at the above address or the Web site at http://www.nsf.gov/od/iia/activities/ceose/index.jsp.

Purpose of Meeting: To study data, programs, policies, and other information pertinent to the National Science Foundation and to provide advice and recommendations concerning broadening participation in science and engineering.

Agenda:Opening Statement by the CEOSE Chair.

Presentations and Discussions:

• Discussion of Key Points from the Meetings with NSF Leadership

• Update of Broadening Participation Activities by the CEOSE Executive Liaison

• Reports of CEOSE Liaisons to NSF Directorate/Office Advisory Committees

• Guest Presenter and NSF Leadership Panel on Broadening Participation in America's STEM Workforce

• Discussion by Federal Agency Liaisons About Interagency Broadening Participation Activities

• Panel Discussion: Science of Broadening Participation

• Panel Discussion: Increasing Hispanic Participation in STEM

• Discussion with NSF Director and Deputy Director

• Discussion of CEOSE Unfinished Business and New Business

Dated: May 19, 2014.
Suzanne Plimpton,
Acting Committee Management Officer.

[FR Doc. 2014-11840 Filed 5-21-14; 8:45 am]

BILLING CODE 7555-01-P